ENVIRONMENTAL PROTECTION AGENCY

[FRL OP-OFA-052]

Environmental Impact Statements; Notice of Availability

Responsible Agency: Office of Federal Activities, General Information 202-564-5632 or https://www.epa.gov/nepa.

Weekly receipt of Environmental Impact Statements (EIS)

Filed December 30, 2022 10 a.m. EST Through January 9, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230002, Final Supplement, DOE, AK, Alaska LNG Project, Review Period Ends: 02/13/2023, Contact: Mark Lusk 304-285-4145.

EIS No. 20230003, Final, NRC, NM, Disposal of Mine Waste at the United Nuclear Corporation Mill Site in McKinley County, New Mexico, Review Period Ends: 02/13/2023, Contact: Christine Pineda 301-415-6789.

EIS No. 20230004, Final Supplement, BOEM, LA, Gulf of Mexico OCS Oil and Gas Lease Sales 259 and 261: Final Supplemental Environmental Impact Statement, Review Period Ends: 02/13/2023, Contact: Helen Rucker 504-736-2421.

Amended Notice

EIS No. 20220161, Draft, APHIS, NAT, The State University of New York College of Environmental Science and Forestry Petition (19-309-01p) for Determination of Nonregulated Status for Blight-Tolerant Darling 58 American Chestnut (Castanea dentata), Comment Period Ends: 01/26/2023, Contact: Cindy Eck 301-851-3892. Revision to FR Notice Published 11/10/2022; Extending the Comment Period from 12/27/2022 to 01/26/2023.

EIS No. 20220170, Draft Supplement, FHWA, WI, I-94 East-West (16th Street-70th Street) Milwaukee County, WI, Comment Period Ends: 01/31/2023, Contact: Bethaney Bacher-Gresock 608-662-2119. Revision to FR Notice Published 11/18/2022; Extending the Comment Period from 01/17/2023 to 01/31/2023.

EIS No. 20220172, Draft, USACE, OR, Willamette Valley System Operations and Maintenance, Comment Period Ends: 02/23/2023, Contact: Nicklas Knudson 503-808-4739. Revision to FR Notice Published 11/25/2022; Extending the Comment Period from 01/19/2023 to 02/23/2023.

Dated: January 9, 2023.
Cindy S. Barger,
Director, NEPA Compliance Division, Office of Federal Activities.

[FR Doc. 2023-00589 Filed 1-12-23; 8:45 am]

BILLING CODE 6560-50-P